DEPARTMENT OF COMMERCE

National Oceanic and Atmospheric Administration

Proposed Information Collection; Comment Request; Information Requirements for the Marine Animal Health and Stranding Response Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 6, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Patricia Lawson, (301) 713-2322 or Patricia.Lawson@noaa.gov.

SUPPLEMENTARY INFORMATION:

I. Abstract

The purpose of this proposed collection of information is to enable the Marine Animal Health and Stranding Response Program (Program) of NOAA to assemble information on all tissue samples submitted to the National Biomonitoring Specimen Bank (Bank), including the National Marine Mammal Tissue Bank. These samples will be collected from marine mammals, sea turtles, sea birds, and other marine animals as needed by volunteers and researchers participating in the Program. The specimen banking information sheets will ask for basic data such as species, date collected, condition of tissue, and biology of animal sampled. This information is essential for the analysis, comparison, and interpretation of submitted specimens.

The Bank provides researchers samples that have been collected in a systematic and well-documented manner for comparing results over time to identify whether environmental and health trends exist. Without background information on all samples submitted to the Bank, scientists cannot conduct comparative and retrospective analyses and interpretation on archived marine animal tissues.

II. Method of Collection

Respondents must send the completed data sheet along with the sample to the Bank. Online submission program should be available in early 2006.

III. Data

OMB Number: None.

Form Number: None.

Type of Review: Regular submission.

Affected Public: Not-for-profit institutions; individuals or households; State, Local or Tribal Governments.

Estimated Number of Respondents: 30.

Estimated Time Per Response: 30 minutes.

Estimated Total Annual Burden Hours: 50.

Estimated Total Annual Cost to Public: $112.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2005.
Gwellnar Banks,
Management Analyst, Office of the Chief Information Officer.

[FR Doc. E5-6853 Filed 12-5-05; 8:45 am]

BILLING CODE 3510-22-P